DEPARTMENT OF THE INTERIOR

Bureau of Land Management

[LLORB06000.L10200000.EE0000.21X.LXSS043H0000.HAG 21-0079]

Notice of Intent To Prepare the Bridge Creek Area Allotment Management Plans Environmental Impact Statement in the Andrews Field Office, Burns District, Oregon

AGENCY: Bureau of Land Management, Interior.

ACTION: Notice of intent.

SUMMARY: In accordance with the National Environmental Policy Act of 1969, as amended, and the Federal Land Policy and Management Act of 1976, as amended, the Bureau of Land Management (BLM) Oregon/Washington Burns District's Andrews Field Office intends to prepare the Bridge Creek Area (BCA) Allotment Management Plans (AMP) Environmental Impact Statement (EIS) and, by this notice, is announcing the beginning of the public scoping period to solicit public comments and identify issues.

DATES: This notice initiates the public scoping process for the EIS. Comments may be submitted in writing until January 3, 2022. The BLM will provide additional opportunities for public participation upon publication of the Draft EIS.

ADDRESSES: You may submit comments by any of the following methods:

• Website: https://eplanning.blm.gov/eplanning-ui/project/2013546/510.

• Email: BLM_OR_BU_BCA_AMP@blm.gov.

• Fax: (541) 573-4411.

• Mail: BCA, c/o Burns District BLM 28910 Hwy 20 West, Hines, OR 97738, Attention: Don Rotell.

Documents associated with this proposal are available at the BLM Burns District Office, 28910 Hwy 20 West, Hines, OR 97738, or at https://eplanning.blm.gov/eplanning-ui/project/2013546/510.

FOR FURTHER INFORMATION CONTACT: Andrews Field Office Manager, Don Rotell; telephone (541) 573-4422, or email BLM_OR_BU_BCA_AMP@blm.gov. Contact Mr. Rotell to have your name added to the project mailing list. Persons who use a telecommunications device for the deaf (TDD) may call the Federal Relay Service (FRS) at (800) 877-8339 to contact Mr. Rotell during normal business hours. The FRS is available 24 hours a day, 7 days a week, to leave a message or question. You will receive a reply during normal business hours.

SUPPLEMENTARY INFORMATION: The EIS will analyze several alternatives for livestock management and related actions in the 26,378-acre project area in southeastern Oregon near the town of Frenchglen. The project covers four allotments: The Hammond, Mud Creek, Hardie Summer, and Hammond Fenced Federal Range allotments. The alternatives will consider issuance of 10-year grazing permits to up to three applicants and approval of four AMPs that outline seasonal grazing systems, grazing utilization thresholds, monitoring, and range developments. The proposed range developments currently include about 8 miles of new fence construction and a similar amount of fence removal. These modifications include short riparian management fences but are largely to realign fences along boundaries of BLM-administered public land and privately owned land. The 2015 Greater Sage-grouse Approved Resource Management Plan Amendment and Record of Decision for Oregon identified the entire project area as habitat for Greater Sage-grouse. Since 1980, approximately 38,624 acres (cumulative) in the project area have been impacted by fire, with some acres burning multiple times. The burned acres have largely been within the Hammond and Mud Creek allotments.

There is currently no grazing preference or grazing authorization associated with the four allotments in the project area. The allotments have been largely un-grazed since 2014 following the BLM's decision to not renew the expiring livestock grazing authorization, which covered all four allotments. This decision was administratively appealed by the permittee, and the Secretary of the Interior resolved the administrative appeal in January 2019 by instructing the BLM to reissue the grazing permit. That decision was litigated in the U.S. District Court for the District of Oregon. The Court issued an order partially granting and partially denying a request for preliminary injunction that allowed only a limited amount of grazing to proceed in the 2019 season. The Court vacated the reissued permit and related Secretarial action and remanded the matter to the Department.

On January 19, 2021, the Secretary of the Interior signed a decision concerning the apportionment of available forage within the allotments and the assignment of grazing preference, and directing the BLM to issue a 10-year livestock grazing permit with allotment management plans and authorize the construction and removal of range improvements. On February 26, 2021, the Senior Advisor to the Secretary Exercising the Delegated Authority of the Assistant Secretary for Land and Minerals Management rescinded the decision and directed the BLM to “initiate any additional processes and opportunities for public involvement that it may determine appropriate under applicable law following a careful and considered review of the protests.”

Through the public-scoping process, the BLM is seeking input on issues, actions, and alternatives that should be addressed in the EIS. Potential issues include the effects of proposed management actions on livestock grazing management, sagebrush ecosystem health, sage-grouse habitat, vegetation, fuels (including invasive annual grasses), riparian/water quality/fisheries, socioeconomics, visual resources, and Wilderness Study Areas. Potential management actions to consider include alternative grazing systems and schedules; issuance of 10-year grazing permits in the four allotments; proposed AMPs; raising the allowable forage use in the Hammond allotment to address higher production of crested wheatgrass seedings; authorization of temporary, non-renewable forage use to reduce standing fine fuel biomass; and installation, modification, or removal of range developments.

The Burns District will consult with the Burns Paiute Tribe throughout the EIS process. Federal, State, and local agencies, along with other stakeholders that may be interested or affected by the proposal, are invited to participate in the scoping process and, if eligible, may request or be requested by the BLM to participate as a cooperating agency. The BLM will coordinate with Federal, State, and local officials and the grazing permit applicants throughout the EIS process.

Comments can be submitted to the BLM using one of the methods listed in the ADDRESSES section of this notice and on the BLM's ePlanning page for this EIS. To be most helpful, please submit comments by the close of the 30-day scoping period. Before including your address, phone number, email address, or other personal identifying information in your comment, you should be aware that your entire comment—including your personal identifying information—may be made publicly available at any time. While you can ask us in your comment to withhold your personal identifying information from public review, we cannot guarantee that we will be able to do so.

(Authority: 40 CFR 1501.9, 1506.6; 43 CFR 4120.2 and 4130.2)

Kathryn J. Stangl,
Associate State Director, Oregon/Washington.

[FR Doc. 2021-26305 Filed 12-2-21; 8:45 am]

BILLING CODE 4310-33-P